DEPARTMENT OF ENERGY

Federal Energy Regulatory Commission

[Docket No. EL15-44-000]

Sage Grouse Energy Project, LLC v. PacificCorp; Notice of Complaint

Take notice that on February 9, 2015, pursuant to section 206 of the Federal Energy Regulatory Commission's (Commission) Rules of Practice and Procedure, 18 CFR 385.206, Sage Grouse Energy Project, LLC (Complainant) filed a formal complaint against the PacificCorp (Respondent) alleging that PacifiCorp has implemented actions and activities to: (1) Ignore the Commission's regulatory authority; (2) circumvent the Commission's December 16, 2013 Order in Docket No. EL-14-1-000; ¹ (3) violate the Respondent's Open Access Transmission Tariff, FERC Electric Tariff, Volume No. 11 (OATT); (4) violate FERC Orders for the Standardization of Generator Interconnection Agreements and Procedures, including FERC Order 2003; (5) engage in trickery including the submission of subtle misrepresentations of tariff language sufficient to alter and change the original meaning and intent of the tariff; (6) engage in activities and practices that include acts against individuals in protected classes such as race, color, religion, sex and even citizenship and immigration status as defined in Civil Rights and Anti-Discrimination Laws; (7) disparaging treatment with respect to the Respondent requiring the Complainant to produce additional information in excess of the mandated requirements in order to process the Complainants' Interconnection Request; (8) the processing of an invalid Interconnection Request for a Respondent favored Interconnection Customer, Blue Mountain Power Partners, LLC on parcels of land whereby the developmental rights for said parcels of land belong to the Complainant; and (9) the processing of an invalid Interconnection Request for a Respondent favored Interconnection Customer, Latigo Wind Park, LLC on land where a transmission cable from the Interconnection Customer's Generating Facility Collector Substation to the Point of Interconnection, Pinto Substation crosses land whereby the developmental rights belong to the Complainant, as more fully explained in the complaint.

¹ Pioneer Wind Park I, LLC, 145 FERC ¶ 61,215 (2013).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 11, 2015.

Dated: February 11, 2015.
Nathaniel J. Davis, Sr.,
Deputy Secretary.

[FR Doc. 2015-03261 Filed 2-17-15; 8:45 am]

BILLING CODE 6717-01-P